DEPARTMENT OF AGRICULTURE

Office of the Secretary

Tongass Advisory Committee

AGENCY: Forest Service, USDA.

ACTION: Notice of intent to establish an advisory committee and call for nominations.

SUMMARY: The Secretary of Agriculture intends to establish the Tongass Advisory Committee (Committee) pursuant to the Federal Advisory Committee Act (FACA) (5 U.S.C. App. 2). The Committee is being established to provide advice and recommendations for developing an ecologically, socially, and economically sustainable forest management strategy on the Tongass National Forest with an emphasis on young growth management. Recommendations and advice may directly inform the development of a proposed action for modification of the 2008 Tongass Land Management Plan. The Secretary has determined that the work of the Committee is in the public interest and relevant to the duties of the Department of Agriculture. The Committee will be solely advisory in nature. All activities of the Committee will be conducted in an open, transparent, and accessible manner. Therefore, the Secretary is seeking nominations to fill 15 vacancies, with a term up to two years. The public is invited to submit nominations for membership either as a self-nomination or a nomination of any qualified and interested person.

DATES: Written nominations must be received by February 27, 2014. Nominations must contain a completed application packet that includes the nominee's name, resume, and completed form AD-755 (Advisory Committee or Research and Promotion Background Information). The form AD-755 may be obtained from the Forest Service contact person or from the following Web site: http://www.ocio.usda.gov/forms/doc/AD-755_Master_2012_508%20Ver.pdf. The package must be sent to the address below.

ADDRESSES: Send nominations and applications to Nicole McMurren, Tongass Advisory Committee Coordinator, U.S. Department of Agriculture, Forest Service, Tongass National Forest, P.O. Box 309, Petersburg, AK 99833-0309.

FOR FURTHER INFORMATION CONTACT: Nicole McMurren, U.S. Forest Service, Petersburg, AK 99833; telephone: 907-772-5875, email: nmcmurren@fs.fed.us. Individuals who use telecommunications devices or the deaf (TDD) may call the Federal Information Relay Service (FIRS) at 1-800-877-8339 between 8:00 a.m. and 8:00 p.m., Eastern Standard Time, Monday through Friday.

SUPPLEMENTARY INFORMATION:

Background

In accordance with the provisions of the Federal Advisory Committee Act (FACA), as amended (5 U.S.C., App. 2), the Secretary of Agriculture intends to establish the Tongass Advisory Committee. The Committee will be a discretionary advisory committee. The Committee will operate under the provisions of FACA and will report to the Secretary of Agriculture through the Chief of the Forest Service.

The purpose of the Committee is to advise the Secretary of Agriculture, through the Chief of the Forest Service, by providing advice and recommendations for developing an ecologically, socially, and economically sustainable forest management strategy on the Tongass National Forest with an emphasis on young growth management. Recommendations and advice may directly inform the development of a proposed action for modification of the 2008 Tongass Land Management Plan.

Advisory Council Organization

The Council will be comprised of not more than 15 members. The members appointed to the Committee will be familiar with the ecological, social, and economic issues impacting Southeast Alaska.

Members shall be appointed by the Secretary of Agriculture as follows:

i. Federally Recognized Tribes, Alaska Native Organizations and/or Alaska Native Corporation representatives;

ii. National or regional environmental and/or conservation organizations;

iii. Timber industry representatives;

iv. Federal, State and local government representatives; and

v. Other commercial users, those holding land use permits or the public at large.

Three members and one alternate will be selected for each interest group. Of these members, one will become the Chairperson who is recognized for their ability to lead a group in a fair and focused manner and who has been briefed on the mission of this Committee. The Secretary appoints the Chairperson. No individual who is currently registered as a Federal lobbyist is eligible to serve as a member of the Committee. The Council will meet as often as necessary to complete its work, perhaps as frequently as every month.

The appointment of members to the Committee is made by the Secretary of Agriculture. Any individual or organization may nominate one or more qualified persons to represent the above vacancies on the Tongass Advisory Committee. Individuals may also nominate themselves. To be considered for membership, nominees must provide—

1. Resume describing qualifications for membership to the Committee;

2. Cover letter with a rationale for serving on the Committee and what they can contribute;

3. Show their past experience in working successfully as part of a coordinating group; and

4. Complete Form AD-755, Advisory Committee or Research and Promotion Background Information.

5. Letters of recommendation are welcome.

All nominations will be vetted by U.S. Department of Agriculture (USDA). A list of qualified applicants from which the Secretary of Agriculture shall appoint to the Tongass Advisory Committee will be prepared. Applicants are strongly encouraged to submit nominations priority mail via United States Post Office to ensure timely receipt by the USDA. Members of the Committee will serve without compensation, but may be reimbursed for travel expenses while performing duties on behalf of the Committee, subject to approval by the Designated Federal Officer (DFO).

Equal opportunity practices, in accordance with USDA policies shall be followed in all appointments to the Committee. To ensure that the recommendation of the Committee have taken into account the needs of the diverse groups served by the Departments, membership should include, to the extent practicable, individuals with demonstrated ability to represent all racial and ethnic groups, women and men, and persons with disabilities.

Dated: December 30, 2013.
Malcolm A. Shorter,
Deputy Assistant Secretary for Administration.

[FR Doc. 2014-00326 Filed 1-10-14; 8:45 am]

BILLING CODE 3410-11-P